ENVIRONMENTAL PROTECTION AGENCY

[FRL-12325-01-OMS]

Good Neighbor Environmental Board

AGENCY: Environmental Protection Agency (EPA).

ACTION: Notice of meeting.

SUMMARY: Under the Federal Advisory Committee Act, the Environmental Protection Agency (EPA) gives notice of a public meeting of the Good Neighbor Environmental Board (GNEB). The purpose of this meeting is for the Board to approve its first comment letter and discuss the second comment letter that will comprise the GNEB 21st report.

DATES: November 13, 2024, from 11 a.m. to 3 p.m. (EST).

ADDRESSES: The meeting will be held at the U.S. Environmental Protection Agency (EPA) headquarters located at 1200 Pennsylvania Avenue NW, Washington, DC 20460.

FOR FURTHER INFORMATION CONTACT: Eugene Green at (202) 564-2432 or via email at green.eugene@epa.gov.

SUPPLEMENTARY INFORMATION: The Board is an independent Federal advisory committee chartered under the Federal Advisory Committee Act, 5 U.S.C. 10. Its mission is to advise the President and Congress of the United States on good neighbor practices along the U.S. border with Mexico. Its recommendations are focused on environmental infrastructure needs within the U.S. states contiguous to Mexico. A copy of the agenda will be posted at www.epa.gov/faca/gneb. The meeting will be held virtually and in-person in Washington, DC at 1200 Pennsylvania Avenue NW, Washington, DC 20460. The meeting is open to the public with limited seating available for in-person attendance and on a first come, first served basis. Members of the public wishing to participate or attend in-person must contact Eugene Green at green.eugene@epa.gov or 202-564-2432 by November 6, 2024, to register. Members of the public wishing to attend or participate virtually must contact Eugene Green using the information above by November 6, 2024, to receive a link to the meeting. The Federal Protective Service requires 48-hour notification for guests entering Federal Government spaces, therefore, it is imperative that the timeframe noted is met prior to the meeting.

Requests to make oral comments or submit written public comments to the board, also should be directed to Eugene Green at least five business days prior to the meeting (November 6, 2024). Requests for accessibility and/or accommodations for individuals with disabilities should be directed to Eugene Green at the phone number or email address listed above. To ensure adequate time for processing, please make requests for accommodations at least 10 business days (October 30, 2024) prior to the meeting.

Oscar Carrillo,
Program Analyst.

[FR Doc. 2024-24315 Filed 10-18-24; 8:45 am]

BILLING CODE P